FEDERAL MARITIME COMMISSION

Ocean Transportation Intermediary License Rescission of Order of Revocations

Notice is hereby given that the Order revoking the following license is being rescinded by the Federal Maritime Commission pursuant to section 19 of the Shipping Act of 1984 (46 U.S.C. chapter 409) and the regulations of the Commission pertaining to the licensing of Ocean Transportation Intermediaries, 46 CFR Part 515.

License Number: 015708N.

Name: Blue Moon Express Limited.

Address: Room 1901, 19/F., C C Wu Bldg., 302-308, Hennessy Rd, Wanchai Hong Kong

Order Published: FR: 11/01/06 (Volume 71, No. 211, Pg. 64281).

Peter J. King,
Deputy Director Bureau of Certification and Licensing.

[FR Doc. E6-19780 Filed 11-21-06; 8:45 am]

BILLING CODE 6730-01-P